DEPARTMENT OF HEALTH AND HUMAN SERVICES

Administration for Children and Families

Submission for Office of Management and Budget (OMB) Review; Community Services Block Grant (CSBG) Model State Plan Applications (OMB No. 0970-0382)

AGENCY: Office of Community Services, Administration for Children and Families, U.S. Department of Health and Human Services.

ACTION: Request for public comments.

SUMMARY: The Office of Community Services (OCS), Administration for Children and Families (ACF) requests a 3-year extension of the Community Services Block Grant (CSBG) State Plan, CSBG Eligible Entity Master List, and the American Customer Survey Index (ACSI) forms (OMB #0970-0382, expiration 8/31/2024). There are no changes requested to these information collections.

DATES: Comments due within 30 days of publication. OMB must make a decision regarding the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: Section 676 of the CSBG Act requires States, including the District of Columbia and the Commonwealth of Puerto Rico, and U.S. territories applying for CSBG funds to submit an application and plan (CSBG State Plan). The CSBG State Plan must meet statutory requirements prior to OCS awarding CSBG grant recipients (States and territories) with CSBG funds. Grant recipients have the option to submit a detailed plan annually or biannually. Grant recipients that submit a biannual plan must provide an abbreviated plan the following year if substantial changes to the initial plan will occur. OCS is not requesting any changes to this form. As this will be the 11th year of submitting this form, OCS does not anticipate any additional burden.

OCS is also requesting to extend approval of the following information collections, with no changes proposed:

• CSBG Eligible Entity List. In alignment with Federal requirements, OCS requests that all grant recipients continue to keep their CSBG Eligible Entity List current, to include maintaining an accurate listing of the CSBG sub-grant recipients (CSBG eligible entities) and current Unique Entity Identifier (UEI) for each recipient listed. This is in alignment with current policies and processes, and therefore OCS does not anticipate any additional burden.

• Optional survey for the sub-grant recipients (or CSBG-eligible entities). The American Customer Survey Index (ACSI) is administered biennially. OCS uses the ACSI survey for eligible entities as part of the CSBG performance management framework. The survey focuses on the customer service that the CSBG sub-grant recipients receive from the CSBG grant recipients. The survey is optional, and this will be the seventh time that CSBG sub-grant recipients have the option to complete the survey. There were no revisions to the survey.

OCS anticipates submitting a subsequent revision to this information collection, pending OMB review and approval of a separate but related information collection request (CSBG Annual Report, OMB No. 0970-0492) that is forthcoming and expected in summer 2024 and may result in minor updates to some of these materials.

Respondents: State governments, including the District of Columbia and the Commonwealth of Puerto Rico, and U.S. territories, and local level sub-grant recipients.

Annual Burden Estimates
Instrument | Total number of respondents | Total number of responses per respondent | Average burden hours per response | Total burden hours | Annual burden hours
CSBG State Plan | 56 | 3 | 28 | 4,704 | 1,568
CSBG Eligible Entity List | 56 | 3 | 1 | 168 | 56
Estimated Total Annual Burden Hours for CSBG Grant Recipients |  |  |  |  | 1,624
CSBG ACSI Survey of CSBG Eligible Entities | 1,000 | 2 | .15 | 300 | 100
Estimated Total Annual Burden Hours for CSBG sub-grant recipients |  |  |  |  | 100
Estimated Total Annual Burden Hours for All Respondents |  |  |  |  | 1,724

Authority: Sec. 676, Public Law 105-285, 112 Stat. 2735 (42 U.S.C. 9908).

Mary C. Jones,
ACF/OPRE Certifying Officer.

[FR Doc. 2024-15368 Filed 7-11-24; 8:45 am]

BILLING CODE 4184-27-P